DEPARTMENT OF HOMELAND SECURITY

Coast Guard

33 CFR Part 165

[CGD01-07-049]

RIN 1625-AA87

Security Zone: Coast Guard Academy Commencement, New London, CT

AGENCY: Coast Guard, DHS.

ACTION: Temporary final rule.

SUMMARY: The Coast Guard is establishing a temporary security zone for the 2007 Coast Guard Academy Commencement Ceremony on Wednesday May 23, 2007. This zone will provide security in the waters of the Thames River adjacent to the Coast Guard Academy, New London, Connecticut during the 2007 Commencement Exercises. This temporary security zone is necessary to protect senior government officials, dignitaries, participants and guests attending the Commencement, members of the general public, and the surrounding area from sabotage or other subversive acts, accidents, or other hazards of a similar nature. Entry into this security zone is prohibited unless authorized by the Captain of the Port, Long Island Sound, New Haven, Connecticut.

DATES: This rule is effective from 10 a.m. until 3 p.m. on May 23, 2007.

ADDRESSES: Documents indicated in this preamble as being available in the docket are part of docket CGD01-07-049 and are available for inspection or copying at Sector Long Island Sound between 9 a.m. and 3 p.m., Monday through Friday, except Federal holidays.

FOR FURTHER INFORMATION CONTACT: Lieutenant Douglas Miller, Waterways Management Division, Sector Long Island Sound at (203) 468-4596.

SUPPLEMENTARY INFORMATION:

Regulatory Information

We did not publish a notice of proposed rulemaking (NPRM) for this regulation. Under 5 U.S.C. 553(b)(B), the Coast Guard finds that good cause exists for not publishing an NPRM. The security zone was requested by the U.S. Secret Service for the Commencement Exercises as the attendance of several senior level government officials and other dignitaries, combined with the nature of and location of the Ceremonies, presents a target for terrorist activity. The sensitive and unpredictable schedules of several of the Commencement Ceremony attendees precluded sufficient notice to the Coast Guard that a security zone would be necessary.

Under 5 U.S.C. 553(d)(3), the Coast Guard finds that good cause exists for making this rule effective less than 30 days after publication in the Federal Register. The delay in notification of the need for the security zone left insufficient time to publish a notice of proposed rulemaking in advance of the effective date of this security zone. The delay in notification also does not allow 30 days between publication of the rule and its effective date. Making this rule effective less than 30 days after publication is necessary as this immediate action is needed to protect the senior government officials and dignitaries attending Commencement exercises, other participants and guests to the Coast Guard Academy Commencement, and the surrounding community from sabotage or other subversive acts, accidents, or other hazards of a similar nature.

Background and Purpose

Several senior United States government officials and other dignitaries will be attending the Coast Guard Academy Commencement Exercises. The attendance of these individuals along with the military nature of the Ceremonies and anticipated national media coverage make this event a potential target for sabotage, subversive acts, or other terrorist activity. Coast Guard Academy Commencement Ceremonies are scheduled for Wednesday, May 23, 2007, from 11 a.m. to 2 p.m.

Discussion of Rule

The Coast Guard is establishing a security zone in the vicinity of the Coast Guard Academy for 2007 Commencement Exercises. This security zone encompasses all navigable waters of the Thames River within a 500-yard radius of Jacobs Rock, located at approximate position 41°22″23′ N, 072°05″39′ W. The security zone will not encompass the navigable channel in the Thames River therefore commercial traffic will be able to pass unimpeded. This security zone will be enforced from 10 a.m., one hour prior to the start of Commencement Exercises, and will be effective until 3 p.m. The enforcement period of this zone will be broadcast to the maritime community immediately prior to its enforcement via broadcast notice to mariners. All coordinates are in North American Datum 1983 (NAD 1983).

This temporary security zone is necessary to protect senior U.S. Government officials and dignitaries attending Coast Guard Academy Commencement, other participants and guests, members of the public and the surrounding area from sabotage, terrorist or other subversive acts, accidents, or other hazards of a similar nature. Entry into this zone is prohibited unless authorized by the Captain of the Port, Long Island Sound.

Any violation of the security zone described herein is punishable by, among others, civil and criminal penalties, in rem liability against the offending vessel, and license sanctions.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. This regulation may have some impact on the public, but these potential impacts will be minimized for the following reasons: the zone is only for a temporary period of not more than 5 hours and will be enforced for the minimum period necessary to ensure the security of the Coast Guard Academy Commencement Exercises; the Federal navigation channel in the Thames River parallel to the Coast Guard Academy will be open to commercial and recreational traffic during the enforcement period; and, vessels may transit in all other areas of the Thames River not included in the security zone at all times.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. This rule will affect the following entities, some of which may be small entities: the owners or operators of vessels intending to transit or anchor in those portions of the Thames River covered by the security zone from 10 a.m. to 3 p.m. on May 23, 2007.

In addition to the reasons outlined in the Regulatory Evaluation section above, this safety zone will not have a significant economic impact on a substantial number of small entities for the following reasons. The rule will be in effect for a maximum of 5 hours on a week day when recreational and small vessel traffic is expected to be minimal. Vessel traffic, both recreational and commercial, can pass safely around the security zone. Before the security zone is effective, the Coast Guard will issue maritime advisories widely available to users of this area of the Thames River.

Assistance for Small Entities

Under section 213(a) of the Small Business Regulatory Enforcement Fairness Act of 1996 (Pub. L. 104-121), we want to assist small entities in understanding this rule so that they could better evaluate its effects on them and participate in the rulemaking process. If the rule would affect your small business, organization, or governmental jurisdiction and you have questions concerning its provisions or options for compliance, please contact Lieutenant Doug Miller, Waterways Management Division, Sector Long Island Sound, at (203) 468-4596.

Small business may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-737-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Government

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D and Department of Homeland Security Management Directive 5100.0, which guide the Coast Guard in complying with the National Environmental Policy Act of 1969 (NEPA) (42 U.S.C. 4321-4370f), and have concluded that there are no factors in this case that would limit the use of a categorical exclusion under section 2.B.2 of the Instruction. Therefore, this rule is categorically excluded under figure 2-1, paragraph (34)(g), of the Instruction, from further environmental documentation. This rule falls under the provisions of paragraph (34)(g) because the rule is established in response to an emergency situation and will be in effect for less than one week in duration.

Under figure 2-1, paragraph (34)(g), of the Instruction, an “Environmental Analysis Check List” and a “Categorical Exclusion Determination” are not required for this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. Add temporary § 165.T01-049 to read as follows:

§ 165.T01-049 Security Zone: 2007 Coast Guard Academy Commencement, New London, CT.

(a) Location. The following area is a security zone: All navigable waters of the Thames River in a 500-yard radius from Jacobs Rock, approximate position 41°22″23′ N., 072°05″39′ W. All coordinates are North American Datum 1983.

(b) Regulations. (1) Entry into or remaining in this zone is prohibited unless authorized by the Coast Guard Captain of the Port, Long Island Sound.

(2) Persons desiring to transit the area of the security zone may contact the Captain of the Port at telephone number 203-468-4404 or on VHF channel 16 (156.8 MHz) to seek permission to transit the area. If permission is granted, all persons and vessels must comply with the instructions of the Captain of the Port or his or her designated representative.

(c) Enforcement period. This section will be enforced from 10 a.m. until 3 p.m. on Wednesday May 23, 2007.

Dated: May 14, 2007.
Peter J. Boynton,
Captain, U.S. Coast Guard, Captain of the Port, Long Island Sound.

[FR Doc. E7-9946 Filed 5-22-07; 8:45 am]

BILLING CODE 4910-15-P